DEPARTMENT OF THE INTERIOR

National Park Service

National Register of Historic Places; Notification of Pending Nominations and Related Actions

Nominations for the following properties being considered for listing or related actions in the National Register were received by the National Park Service before December 27, 2008. Pursuant to section 60.13 of 36 CFR Part 60, written comments concerning the significance of these properties under the National Register criteria for evaluation may be forwarded by the United States Postal Service to the National Register of Historic Places, National Park Service, 1849 C St., NW., 2280, Washington, DC 20240; by all other carriers, National Register of Historic Places, National Park Service, 1201 Eye St., NW., 8th floor, Washington, DC 20005; or by fax, 202-371-6447. Written or faxed comments should be submitted by January 27, 2009.

Alexandra Lord,
Acting Chief, National Register of Historic Places/National Historic Landmarks Program.

ARIZONA

Maricopa County

Valley Field Riding and Polo Club, 2530 N. 64th St., Scottsdale, 08001405

CALIFORNIA

Orange County

Dewella Apartments, 234-236 E. Wilshire Ave., Fullerton, 08001406

San Francisco County

Uptown Tenderloin Historic District, All or part of 33 blocks roughly bounded by Market, McAllister, Golden Gate, Larkin, Geary, Taylor, Ellis Sts., San Francisco, 08001407

GUAM

Guam County

Umang Dam, S. side of Finile Rd., Agat, 08001408

MISSOURI

Christian County

Ozark Courthouse Square Historic District, Portions of 2nd Ave., Church, Elm, and 2nd Sts. on the Courthouse Square, Ozark, 08001409

St. Louis Independent City

Wellston J.C. Penney Building, 5930 Dr. Martin Luther King Dr., St. Louis, 08001410

NEW HAMPSHIRE

Hillsborough County

Union Chapel, 220 Sawmill Rd., Hillsborough, 08001411

NORTH CAROLINA

Gaston County

McAdenville Historic District, 100-413 Main St., Elm and Poplar Sts., and cross sts. from I-85 to S. Fork of Catawba River, McAdenville, 08001412

Madison County

Hot Springs Historic District, Roughly bounded by Bridge St., Andrews Ave. S. and Meadow Ln., Hot Springs, 08001413

New Hanover County

Westbrook-Ardmore Historic District, Bounded by Dock St., Wrightsville Ave., Queen and Lingo Sts., and by S. 14th St., Wilmington, 08001414

Wake County

Mary Elizabeth Hospital, 1100 Wake Forest Rd., Raleigh, 08001415

[FR Doc. E9-295 Filed 1-9-09; 8:45 am]

BILLING CODE 4310-70-P